ENVIRONMENTAL PROTECTION AGENCY

[FRL-7227-4]

Clean Water Act Section 303(d): Final Agency Action on 11 Total Maximum Daily Loads (TMDLs) and Final Agency Action on 4 Determinations That TMDLs Are Not Needed

AGENCY: Environmental Protection Agency (EPA).

ACTION: Notice of availability.

SUMMARY: This notice announces final agency action on 11 TMDLs prepared by EPA Region 6 for waters listed in Louisiana's Ouachita river basin, under section 303(d) of the Clean Water Act (CWA). This notice also announces final agency action removing 4 waterbody/pollutant combinations from the Louisiana 303(d) list because TMDLs are not needed. The EPA evaluated these waters and prepared the 11 TMDL in response to a consent decree entered in the lawsuit Sierra Club, et al. v. Clifford et al., No. 96-0527, (E.D. La.). Documents from the administrative record files for the 4 determinations that TMDLs are not needed and for 11 the TMDLs, including TMDL calculations and responses to comments, may be viewed at www.epa.gov/region6/water/tmdl.htm. The administrative record files may be obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner.

EPA Takes Final Agency Action on 11 TMDLs

By this notice EPA is taking final agency action on the following 11 TMDLs for waters located within the Ouachita river basin:

Subsegment | Waterbody name | Pollutant
080401 | Bayou Bartholomew—Arkansas State Line to Dead Bayou (Lake Bartholomew) (Scenic) | Mercury.
080402 | Bayou Bartholomew—Dead Bayou (Lake Bartholomew) to Ouachita River | Mercury.
080302 | Black River—Corps of Engineers Control Structure to Red River | Organic enrichment/low DO.
081602 | Little River—From Bear Creek to Catahoula Lake (Scenic) | Siltation.
080401 | Bayou Bartholomew—Arkansas State line to Dead Bayou Lake (Bartholomew) (Scenic) | Suspended solids.
080202 | Bayou Louis | Turbidity.
080401 | Bayou Bartholomew—Arkansas State line to Dead Bayou (Lake Bartholomew)(Scenic) | Turbidity.
081002 | Joe's Bayou—Headwaters to Bayou Macon | Turbidity.
081202 | Lake St. Joseph (Oxbow Lake) | Turbidity.
081601 | Little River—Confluence of Castor Creek and Dugdemona River to junction with Bear Creek (Scenic) | Turbidity.
081602 | Little River—From Bear Creek to Catahoula Lake (Scenic) | Turbidity.

EPA requested the public to provide EPA with any significant data or information that may impact the 11 TMDLs in 67 FR 19575 (April 22, 2002). The comments received and EPA's response to comments may be found at www.epa.gov/region6/water/tmdl.htm.

Final Agency Action Removing 4 Waterbody/Pollutant Combinations for Waters Located Within the Calcasieu and Ouachita River Basins From the Louisiana 303(d) List Because TMDLs Are Not Needed

Subsegment | Waterbody name | Pollutant
030201 | Calcasieu River—Confluence with Marsh Bayou to Saltwater Barrier (Scenic) | Lead.
081401 | Dugdemona River—Headwaters to junction with Big Creek | Nutrients.
081401 | Dugdemona River—Headwaters to | Organic enrichment/low DO.
081503 | Beaucoup Creek—Headwaters to Castor Creek | Organic enrichment/low DO (TMDL previously LDEQ established & EPA approved).

EPA requested the public to provide to EPA any significant data or information that may impact the determinations that 4 TMDLs are not needed in 67 FR 19575 (April 22, 2002). The comments received and EPA's response to comments may be found at www.epa.gov/region6/water/tmdl.htm.

Dated: May 30, 2002.
Oscar Ramirez, Jr.,
Acting Director, Water Quality Protection Division, Region 6.

[FR Doc. 02-14499 Filed 6-12-02; 8:45 am]

BILLING CODE 6560-50-P